FEDERAL MARITIME COMMISSION

[FMC-2025-0011]

Executive Order (E.O.) 14294 (Fighting Overcriminalization in Federal Regulations)

AGENCY: Federal Maritime Commission.

ACTION: Notice.

On May 9, 2025, the President signed Executive Order (E.O.) 14294, Fighting Overcriminalization in Federal Regulations. Section 7 of the Executive Order requires each agency to publish guidance in the Federal Register by June 23, 2025, that describes the agency's plan to address criminally liable regulatory offenses. None of the statutes or regulations that the Federal Maritime Commission administers carry criminal penalties for violations.

By the Commission.
David Eng,
Secretary.

[FR Doc. 2025-11278 Filed 6-18-25; 8:45 am]

BILLING CODE 6730-02-P